DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Award Amendment Requests and Project Service Maps.

OMB Control Number: 0610-0102.

Form Number(s): None.

Type of Request: Regular submission (extension of a currently approved information collection).

Number of Respondents: 632 (600 requests for amendments to construction awards, 30 requests for amendments to non-construction awards, 2 project service maps).

Average Hours Per Response: 2 hours for an amendment to a construction award, 1 hour for an amendment to a non-construction award, 6 hours for a project service map.

Burden Hours: 1,242.

Needs and Uses: A recipient must submit a written request to EDA to amend an investment award and provide such information and documentation as EDA deems necessary to determine the merit of altering the terms of an award (see 13 CFR 302.7(a) of EDA's regulations). EDA may require a recipient to submit a project service map and information from which to determine whether services are provided to all segments of the region being assisted (see CFR 302.16(c) of EDA's regulations).

The type of documentation varies by the amendment requested. For example, a change to the approved schedule may require documentation substantiating claims that weather caused delays, or labor shortages caused delays, or environmental issues unknown at the time of award caused delays. The explanation may require why the change is in the best interest of both the government and the recipient and what impact the change will have on project outcomes. Also, a budget request may require documentation showing that materials were more expensive than originally budgeted and substitutes were not available. Upon receiving an amendment request, the EDA engineer/construction manager assigned to the project will evaluate the request and determine what type of documentation is required. The EDA engineer/construction manager will then communicate this to the recipient.

Affected Public: Current recipients of EDA assistance, to include (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes; and (7) (for training, research, and technical assistance awards only) individuals and for profit businesses.

Frequency: Annually.

Respondent's Obligation: Required to obtain or retain benefits.

OMB Desk Officer: Nicholas Fraser, (202) 395-5887.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-7285, or via the Internet at Nicholas_A._Fraser@omb.eop.gov.

Dated: July 17, 2012.
Gwellnar Banks,
Management Analyst, Office of the Chief Information Officer.

[FR Doc. 2012-17669 Filed 7-19-12; 8:45 am]

BILLING CODE 3510-34-P